FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Penasa Logistics (USA), Inc., 11222 S. La Cienega Blvd., #180, Inglewood, CA 90304.

Officers:Yoon Hyoun Baek, Secretary/Director (Qualifying Individual) Kam Yuen Tam, CEO

ALSPAC Miami Corporation, 8408 N.W. 66th Street, Miami, FL 33166.

Officers:Maurice Rousseau, Jr., Vice President (Qualifying Individual) Mounr Whan Chang, President

Non-Vessel Operating Common Carrier and Ocean Freight Forwarder Transportation Intermediary Applicants:

K. Carlton International, Inc., 7744 Peters Road, #225, Plantation, FL 33324.

Officers:Kathleen R. Carlton, President (Qualifying Individual) Michael Mattsson, Vice President

General Logistics, Inc., 175-01 Rockaway Blvd., Suite 213,

Jamaica, NY 11434.

Officer:Chae J. Kim, President (Qualifying Individual)

Ocean Freight Forwarder—Ocean Transportation Intermediary Applicants:

Limitless international Inc., 513 Whisper Walk, Chesapeake, VA 23322.

Officer:Cheryl A. Stockstad, President (Qualifying Individual)

TDC International Express Inc., 500 Carson Plaza Drive, #20, Carson, CA 90746.

Officer:Susan Cha, President (Qualifying Individual)

Susie Gonzalez, Inc. dba Friends Cargo International, 8367 NW 74th Street, Miami, FL 33166.

Officers:Susie Gonzalez, President (Qualifying Individual), Jorge Gonzalez, Vice President.

Dated: September 27, 2002.
Bryant L. VanBrakle,
Secretary.

[FR Doc. 02-25060 Filed 10-1-02; 8:45 am]

BILLING CODE 6730-01-P